DEPARTMENT OF TRANSPORTATION

Transportation Security Administration

49 CFR Part 1502

[Docket No. TSA-2002-12742]

RIN 2110-AA02

Responsibilities of the Under Secretary of Transportation for Security

AGENCY: Transportation Security Administration, DOT.

ACTION: Final rule.

SUMMARY: In this final rule, the Transportation Security Administration (TSA) states the responsibilities of the Under Secretary of Transportation for Security and designates the Deputy Under Secretary of Transportation for Security/Chief Operating Officer as the “first assistant” to the Under Secretary of Transportation for Security for purposes of the Federal Vacancies Reform Act of 1998. As “first assistant,” the Deputy Under Secretary of Transportation for Security/Chief Operating Officer serves as the Acting Under Secretary of Transportation for Security when the Under Secretary of Transportation for Security dies, resigns, or is otherwise unable to perform the functions and duties of the office.

EFFECTIVE DATE: July 17, 2002.

FOR FURTHER INFORMATION CONTACT: David K. Tochen, Deputy Assistant General Counsel, Office of the Assistant General Counsel for Environmental, Civil Rights, and General Law, Department of Transportation, 400 Seventh Street, SW., Room 10102, Washington, DC 20590; Telephone: (202) 366-9153.

SUPPLEMENTARY INFORMATION:

Availability of the Final Rule

An electronic copy of this document may be downloaded by using a computer, modem, and suitable communications software from the Government Printing Office's Electronic Bulletin Boards Service at (202) 512-1661. Internet users may reach the Office of the Federal Register's home page at: http://www.nara.gov/fedreg and the Government Printing Office's database at: http://www.access.gpo.gov. You can also view and download this document by going to the webpage of the Department's Docket Management System (http://dms.dot.gov). On that webpage, click on “search.” On the next page, type in the four-digit docket number shown on the first page of this document. Then click on “search.”

Background

The Aviation and Transportation Security Act, Public Law 107-71, enacted into law on November 19, 2001, established the Transportation Security Administration (TSA) as a new operating administration within the Department of Transportation. The TSA is headed by the Under Secretary of Transportation for Security. As specified in the Aviation and Transportation Security Act, the Under Secretary of Transportation for Security is responsible for security in all modes of transportation, including carrying out chapter 449 of title 49 of the United States Code, relating to civil aviation security and related research and development activities. This rule states the responsibilities of the Under Secretary of Transportation for Security.

This rule also provides that the Deputy Under Secretary of Transportation for Security/Chief Operating Officer shall serve as the “first assistant” to the Under Secretary of Transportation for Security within the meaning of the Federal Vacancies Reform Act of 1998, 5 U.S.C. 3345-3349d. The Federal Vacancies Reform Act provides that in the event of a vacancy in an office headed by an officer whose appointment is required to be made by the President, with the advice and consent of the Senate, the “first assistant” shall perform the functions and duties of the vacant position in an acting capacity and on a temporary basis, subject to certain narrow exceptions. Since the Aviation and Transportation Security Act did not establish a “first assistant” to the Under Secretary of Transportation for Security within TSA, the Secretary of Transportation is authorized to designate a “first assistant” and hereby does so by this action.

Since this amendment relates to Departmental management, procedures, and practice, notice and comment on it are unnecessary under 5 U.S.C. 553 and, as such, it may be made effective in less than 30 days after publication in the Federal Register under 5 U.S.C. 553(d). The Regulatory Flexibility Act does not apply to this rulemaking since, under 5 U.S.C. 553, the Department is not required to publish a notice of proposed rulemaking. However, we note that this rule does not have a significant economic impact on a substantial number of small entities since it relates to DOT management, procedures, and practice. This rule is not considered to be a rule within the meaning of section 3(d) of Executive Order 12866 and therefore has not been reviewed by the Office of Management and Budget pursuant to that Order. Finally, the rule does not have federalism implications under Executive Order 13132.

List of Subjects in 49 CFR Part 1502

Authority delegations (Government agencies), Government employees, Organization and functions (Government agencies).

Issued this 17th day of July, 2002, at Washington, DC.
Norman Y. Mineta,
Secretary of Transportation.

In consideration of the foregoing, a new part 1502 consisting of “1502.1 is added to Title 49 in chapter XII, subchapter A, of the Code of Federal Regulations, to read as follows:

PART 1502—ORGANIZATION, FUNCTIONS, AND PROCEDURES

Authority: 5 U.S.C. 3345, 49 U.S.C. 114, 40119, 44901-44907, 44913-44914, 44916-44920, 44935-44936, 44942, 46101-46105, 45107, 46110.

1502.1 Responsibilities of the Under Secretary of Transportation for Security.

(a) The Under Secretary of Transportation for Security is responsible for the planning, direction, and control of the Transportation Security Administration (TSA) and for security in all modes of transportation. The Under Secretary of Transportation for Security's responsibility includes carrying out chapter 449 of title 49, United States Code, relating to civil aviation security, and related research and development activities, and security responsibilities over other modes of transportation that are exercised by the Department of Transportation.

(b) The Deputy Under Secretary of Transportation for Security/Chief Operating Officer is the “first assistant” to the Under Secretary of Transportation for Security for purposes of the Federal Vacancies Reform Act of 1998, and shall, in the event the Under Secretary of Transportation for Security dies, resigns, or is otherwise unable to perform the functions and duties of the office, serve as the Acting Under Secretary of Transportation for Security, subject to the limitations in the Federal Vacancies Reform Act of 1998. In the event of the absence or disability of both the Under Secretary of Transportation for Security and the Deputy Under Secretary of Transportation for Security/Chief Operating Officer, officials designated by TSA's internal order on succession shall serve as Acting Deputy Under Secretary of Transportation for Security/Chief Operating Officer and shall perform the duties of the Under Secretary of Transportation for Security, except for any non-delegable statutory and/or regulatory duties.

[FR Doc. 02-18524 Filed 7-18-02; 11:46 am]

BILLING CODE 4910-62-P